DEPARTMENT OF HOMELAND SECURITY

Federal Emergency Management Agency

44 CFR Part 67

[Docket ID FEMA-2011-0002; Internal Agency Docket No. FEMA-B-1174]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before May 3, 2011.

ADDRESSES: The corresponding preliminary Flood Insurance Rate Map (FIRM) for the proposed BFEs for each community is available for inspection at the community's map repository. The respective addresses are listed in the table below.

You may submit comments, identified by Docket No. FEMA-B-1170, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Benton County, Arkansas, and Incorporated Areas
Blossom Way Creek | At the Osage/Turtle Creek confluence | +1205 | +1204 | City of Rogers.
| Approximately 0.4 mile upstream of 1st Street | +1347 | +1346 |
Brush Creek | Approximately 1,530 feet upstream of the Little Sugar Creek confluence | None | +1095 | City of Little Flock, City of Rogers, Unincorporated Areas of Benton County.
| Approximately 1,600 feet upstream of State Highway 94 North | None | +1198 |
Brush Creek Tributary | At the Brush Creek confluence | None | +1114 | City of Little Flock.
| Approximately 0.37 mile upstream of the Brush Creek confluence | None | +1131 |
Cross Creek | Approximately 1,875 feet downstream of Willow Ridge Way | None | +1249 | City of Rogers.
| At the upstream side of Mills Lane | None | +1313 |
Cross Creek Tributary 1 | At the Cross Creek confluence | None | +1267 | City of Rogers.
| Approximately 1,625 feet upstream of West Drive | None | +1307 |
Cross Creek Tributary 2 | At the Cross Creek Tributary 1 confluence | None | +1267 | City of Rogers.
| Approximately 150 feet upstream of West Drive | None | +1310 |
East Flint Creek | At the Flint Creek confluence | None | +1201 | Town of Springtown, Unincorporated Areas of Benton County.
| Approximately 1,830 feet upstream of Aubrey Long Road | None | +1211 |
East Tributary of Blossom Way Creek | At the Blossom Way Creek confluence | +1281 | +1280 | City of Rogers.
| Approximately 0.41 mile upstream of the Blossom Way Creek confluence | None | +1303 |
Flint Creek | Approximately 0.45 mile downstream of the North Flint Creek and East Flint Creek confluence | None | +1193 | Town of Springtown, Unincorporated Areas of Benton County.
| At the North Flint Creek and East Flint Creek confluence | None | +1201 |
Little Osage Creek (downstream reach) | Approximately 0.71 mile downstream of Southwest Regional Airport Boulevard | None | +1163 | City of Bentonville, Unincorporated Areas of Benton County.
| At the Little Osage Creek Tributary 2 confluence | None | +1182 |
Little Osage Creek (upstream reach) | Approximately 390 feet downstream of Brookside Road | None | +1219 | City of Bentonville, City of Centerton.
| Approximately 600 feet upstream of the upstream crossing of West Fish Hatchery Road | None | +1258 |
Little Osage Creek Tributary 2 | Approximately 210 feet downstream of Southwest Opal Road | None | +1182 | City of Bentonville, Unincorporated Areas of Benton County.
| Approximately 0.5 mile downstream of Southwest I Street | None | +1268 |
Little Osage Creek Tributary 2.1 | At the Little Osage Creek Tributary 2 confluence | None | +1205 | City of Bentonville, City of Centerton, Unincorporated Areas of Benton County.
| Approximately 1,510 feet upstream of Greenhouse Road | None | +1244 |
Little Osage Creek Tributary 2.1.1 | At the Little Osage Creek Tributary 2.1 confluence | None | +1228 | City of Centerton.
| Approximately 0.68 mile upstream of the Little Osage Creek Tributary 2.1 confluence | None | +1257 |
Little Osage Creek Tributary 2.1.2 | At the Little Osage Creek Tributary 2.1 confluence | None | +1237 | City of Centerton, Unincorporated Areas of Benton County.
| Approximately 0.52 mile upstream of the Little Osage Creek Tributary 2.1 confluence | None | +1254 |
North Flint Creek | At the Flint Creek confluence | None | +1201 | Town of Springtown, Unincorporated Areas of Benton County.
| Approximately 0.55 mile upstream of the Flint Creek confluence | None | +1212 |
Osage Tributary 1 | At the Osage/Turtle Creek confluence | +1196 | +1194 | City of Bentonville, City of Rogers.
| At the downstream side of Riviera Road | +1256 | +1257 |
Osage Tributary 2 | At the Osage Tributary 1 confluence | +1251 | +1256 | City of Bentonville, City of Rogers.
| Approximately 1,450 feet upstream of I-540 | None | +1283 |
Osage Tributary 3 | At the Osage Tributary 1 confluence | +1268 | +1269 | City of Rogers.
| Approximately 1,550 feet upstream of I-540 | None | +1284 |
Osage Tributary 4 | At the Osage/Turtle Creek confluence | +1190 | +1189 | City of Rogers, Unincorporated Areas of Benton County.
| Approximately 1,800 feet upstream of South Rainbow Road | None | +1270 |
Osage/Turtle Creek | Approximately 0.47 mile downstream of Southgate Road | None | +1152 | City of Cave Springs, City of Rogers, Unincorporated Areas of Benton County.
| Approximately 700 feet upstream of 5th Street | +1347 | +1346 |
Superior Tributary to Osage/Turtle Creek | At the Osage/Turtle Creek confluence | +1284 | +1288 | City of Rogers.
| Approximately 50 feet downstream of Dixieland Road | +1310 | +1309 |
Tributary 1 to Blossom Way Creek | At the Blossom Way Creek confluence | +1289 | +1288 | City of Rogers.
| At the downstream side of South 8th Street | None | +1331 |
Tributary 2 to Blossom Way Creek | At the Tributary 1 to Blossom Way Creek confluence | +1302 | +1303 | City of Rogers.
| Approximately 750 feet upstream of South 1st Street | None | +1333 |
Turtle Creek Tributary | At the Osage/Turtle Creek confluence | +1277 | +1276 | City of Little Flock, City of Rogers.
| Approximately 1,580 feet upstream of 2nd Street | None | +1352 |
Turtle Creek Tributary 1A | At the Turtle Creek Tributary confluence | None | +1324 | City of Rogers.
| Approximately 1,050 feet upstream of West Easy Street | None | +1355 |
Unnamed Tributary to Puppy Creek | Approximately 370 feet upstream of West Monroe Avenue | None | +1273 | City of Lowell.
| Approximately 300 feet upstream of Links Drive | None | +1285 |
West Tributary to Blossom Way Creek | At the Blossom Way Creek confluence | +1277 | +1276 | City of Rogers.
| Approximately 0.49 mile upstream of the Blossom Way Creek confluence | None | +1303
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Bentonville
Maps are available for inspection at City Hall, 117 West Central Avenue, Bentonville, AR 72712.
City of Cave Springs
Maps are available for inspection at City Hall, 134 North Main Street, Cave Springs, AR 72718.
City of Centerton
Maps are available for inspection at City Hall, 290 Main Street, Centerton, AR 72719.
City of Little Flock
Maps are available for inspection at City Hall, 1500 Little Flock Drive, Rogers, AR 72756.
City of Lowell
Maps are available for inspection at City Hall, 216 North Lincoln Street, Lowell, AR 72745.
City of Rogers
Maps are available for inspection at City Hall, 301 West Chestnut Street, Rogers, AR 72756.
Town of Springtown
Maps are available for inspection at the Town Hall, 12055 Wasson Road, Springtown, AR 72734.
Unincorporated Areas of Benton County
Maps are available for inspection at the Benton County Administration Building, 215 East Central Avenue, Bentonville, AR 72712.
White County, Illinois, and Incorporated Areas
Griffith Lake | Entire shoreline within community | None | +391 | City of Carmi.
Little Wabash River | Approximately 0.7 mile upstream of County Highway 23 | +376 | +377 | City of Carmi, Unincorporated Areas of White County.
| At County Road 1200 East (Lowe Road) | +379 | +381 |
Old Channel Wabash River | Approximately 0.82 mile downstream of Mulberry Street extended | None | +386 | City of Grayville.
| Approximately 250 feet downstream of North Street extended | None | +386 |
Unnamed Ponding Area | Entire area of ponding north of the abandoned railroad | None | +398 | City of Carmi, Unincorporated Areas of White County.
Unnamed Tributary to Little Wabash River | At the upstream side of College Boulevard | +377 | +379 | City of Carmi, Unincorporated Areas of White County.
| At the downstream side of the abandoned railroad (approximately 1.94 miles upstream of the Little Wabash River confluence) | None | +394 |
Unnamed Tributary to Little Wabash River, West Branch | At the Unnamed Tributary to Little Wabash River confluence | None | +380 | City of Carmi, Unincorporated Areas of White County.
| At the downstream side of Fairground Road | None | +383 |
Wabash River | Approximately 0.51 mile downstream of County Road 1100 North (Emma Street) extended | None | +374 | Village of Maunie.
| Approximately 480 feet upstream of County Road 1100 North (Emma Street) extended | None | +375 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Carmi
Maps are available for inspection at City Hall, 225 East Main Street, Carmi, IL 62821.
City of Grayville
Maps are available for inspection at City Hall, 122 South Court Street, Grayville, IL 62844.
Unincorporated Areas of White County
Maps are available for inspection at the White County Courthouse, 301 East Main Street, Carmi, IL 62821.
Village of Maunie
Maps are available for inspection at the Village Hall, 328 Sheridan Street, Maunie, IL 62861
Missouri River | At the Atchison County boundary | None | +797 | City of Elwood, City of Wathena, City of White Cloud, Iowa Tribe of Kansas And Nebraska, Unincorporated Areas of Doniphan County.
| Approximately 1.7 miles upstream of Main Street | None | +858 |
Peters Creek | At the Missouri River confluence | +811 | +813 | Unincorporated Areas of Doniphan County, City of Wathena.
| At the upstream side of Chicago Rock Island and Pacific Railroad | +812 | +813 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Elwood
Maps are available for inspection at City Hall, 207 North 6th Street, Elwood, KS 66024.
City of Wathena
Maps are available for inspection at City Hall, 206 Saint Joseph Street, Wathena, KS 66090.
City of White Cloud
Maps are available for inspection at City Hall, 2017 Main Street, White Cloud, KS 66094.
Iowa Tribe of Kansas and Nebraska
Maps are available for inspection at 3345 B Thrasher Road, White Cloud, KS 66094.
Unincorporated Areas of Doniphan County
Maps are available for inspection at 120 East Chesnut Street, Doniphan County Courthouse, Troy, KS 66087.
Blair County, Pennsylvania (All Jurisdictions)
Bells Gap Run | At the downstream side of Becker Road | None | +1044 | Borough of Bellwood.
| At the upstream side of Becker Road | None | +1067 |
Blair Gap Run | Approximately 0.59 mile upstream of Mill Road | None | +1136 | Township of Allegheny.
| Approximately 0.69 mile upstream of Mill Road | None | +1141 |
Blair Gap Run | Approximately 975 feet upstream of the railroad | None | +1019 | Township of Allegheny.
| Approximately 890 feet downstream of 2nd Avenue | None | +1022 |
Brush Run | At the upstream side of 17th Street | None | +1096 | Township of Logan.
| Approximately 149 feet upstream of 17th Street | None | +1098 |
Burgoon Run | Approximately 405 feet upstream of Oak Avenue | None | +1132 | Township of Logan.
| Approximately 585 feet upstream of Oak Avenue | None | +1135 |
Cabbage Creek | Approximately 745 feet upstream of Main Street | +1223 | +1222 | Township of Taylor.
| Approximately 975 feet upstream of Main Street | +1224 | +1223 |
Clover Creek | Approximately 130 feet upstream of Private Drive | +1075 | +1072 | Township of Huston, Township of Woodbury.
| Approximately 700 feet upstream of Private Drive | +1075 | +1074 |
Frankstown Branch Juniata River | Approximately 1,855 feet downstream of State Route 36 (Woodbury Pike) | +998 | +995 | Township of Freedom.
| Approximately 1,050 feet downstream of State Route 36 (Woodbury Pike) | +999 | +998 |
Halter Creek | Approximately 709 feet downstream of Mountain Street | +1143 | +1144 | Borough of Roaring Spring.
| Approximately 479 feet downstream of Mountain Street | +1144 | +1146 |
Laurel Run | Approximately 1,025 feet upstream of Clite's Road | None | +1016 | Township of Snyder.
| Approximately 1,045 feet upstream of Clite's Road | None | +1017 |
Little Juniata River | Approximately 1,415 feet downstream of the Homer Gap Run confluence | None | +1081 | Township of Logan.
| Approximately 1,205 feet downstream of the Homer Gap Run confluence | None | +1081 |
Mill Run | At the downstream side of 58th Street | +1051 | +1052 | City of Altoona.
Poplar Run | Approximately 550 feet upstream of Poplar Run Road | None | +1234 | Township of Freedom.
| Approximately 780 feet upstream of Poplar Run Road | None | +1239 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Borough of Bellwood
Maps are available for inspection at the Borough Hall, 400 North 1st Street, Bellwood, PA 16617.
Borough of Roaring Spring
Maps are available for inspection at the Borough Building, 616 Spang Street, Roaring Spring, PA 16673.
City of Altoona
Maps are available for inspection at City Hall, 1301 12th Street, Suite 300, Altoona, PA 16601.
Township of Allegheny
Maps are available for inspection at the Allegheny Township Building, 3131 Colonial Drive, Duncansville, PA 16635.
Township of Freedom
Maps are available for inspection at the Freedom Township Building, 131 Municipal Street, East Freedom, PA 16637.
Township of Huston
Maps are available for inspection at the Huston Township Office, 1538 Sportsman Road, Martinsburg, PA 16662.
Township of Logan
Maps are available for inspection at the Logan Township Building, 100 Chief Logan Circle, Altoona, PA 16602.
Township of Snyder
Maps are available for inspection at the Snyder Township Building, 108 Baughman Hollow Road, Tyrone, PA 16686.
Township of Taylor
Maps are available for inspection at the Taylor Township Municipal Building, 1002 Route 36, Roaring Spring, PA 16673.
Township of Woodbury
Maps are available for inspection at the Woodbury Township Building, 6385 Clover Creek Road, Williamsburg, PA 16693.

(Catalog of Federal Domestic Assistance No. 97.022, “Flood Insurance.”)

Dated: January 24, 2011.
Sandra K. Knight,
Deputy Federal Insurance and Mitigation Administrator, Mitigation, Department of Homeland Security, Federal Emergency Management Agency.

[FR Doc. 2011-2281 Filed 2-1-11; 8:45 am]

BILLING CODE 9110-12-P